DEPARTMENT OF STATE

[Delegation of Authority No. 312]

Delegation by the Secretary of State to the Assistant Secretary for European and Eurasian Affairs of Authority to Make Certain Determinations Regarding Assistance Related to the Dayton Accords

By virtue of the authority vested in me as Secretary of State, including the authority of section 1 of the State Department Basic Authorities Act of 1956, as amended (22 U.S.C. 2651(a)), I hereby delegate to the Assistant Secretary for European and Eurasian Affairs all authorities and functions vested in the Secretary of State under section 658(e) of the Department of State, Foreign Operations, and Related Programs Appropriations Act, 2008 (Div. J, Pub. L. 110-161) to make determinations that international financial institution projects involving the extension of any financial or technical assistance to Serbia directly support the implementation of the Dayton Accords.

Notwithstanding this delegation of authority, the Secretary of State and Deputy Secretary of State may exercise any authority or function delegated by this delegation.

This delegation of authority shall be published in the Federal Register.

Dated: March 27, 2008.
Condoleezza Rice,
Secretary of State.

[FR Doc. E8-8594 Filed 4-18-08; 8:45 am]

BILLING CODE 4710-23-P